DEPARTMENT OF THE INTERIOR

Fish and Wildlife Service

[FWS-R9-IA-2012-N109; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) the application was filed in good faith, (2) The granted permit would not operate to the disadvantage of the endangered species, and (3) The granted permit would be consistent with the purposes and policy set forth in section 2 of the ESA.

Permit No. | Applicant | Receipt of application Federal Register notice | Permit issuance date
Endangered Species
758093 | Florida Fish & Wildlife Conservation Commission, Fish and Wildlife Research Institute | 76 FR 52965; August 24, 2011 | October 21, 2011.
47878A | Nicole Smolensky | 76 FR 57757; September 16, 2011 | November 15, 2011.
56912A | Nashville Zoo | 76 FR 72434; November 23, 2011 | March 12, 2012.
50819A | San Diego Zoo Global | 76 FR 77006; December 9, 2011 | March 12, 2012.
692283 | Busch Gardens | 76 FR 77006; December 9, 2011 | January 18, 2012.
197162 | Stephen Chan | 76 FR 77006; December 9, 2011 | January 18, 2012.
676511 | Virginia Zoological Park | 76 FR 77006; December 9, 2011 | January 18, 2012.
091931 | Jeffrey Hunter | 76 FR 77006; December 9, 2011 | January 18, 2012.
192404 | Ricardo Longoria | 76 FR 77006; December 9, 2011 | January 18, 2012.
59781A | New England Aquarium | 76 FR 77006; December 9, 2011 | January 18, 2012.
201582 | James Pfarr | 76 FR 77006; December 9, 2011 | January 18, 2012.
19818A | Phoenix Herpetological Society, Inc | 76 FR 77006; December 9, 2011 | January 18, 2012.
096048 | Matson's Laboratory | 76 FR 77006; December 9, 2011 | March 16, 2012.
57273A | University of Georgia Research Foundation, Inc | 76 FR 78308; December 16, 2011 | February 6, 2012.
57939A | Phoenix Herpetological Society | 76 FR 78308; December 16, 2011 | February 23, 2012.
60140A | Daniel Arenas | 76 FR 80384; December 23, 2011 | January 31, 2012.
60356A | Giordi Evenson | 76 FR 80384; December 23, 2011 | January 31, 2012.
60965A | Stephan Haller | 76 FR 80384; December 23, 2011 | February 2, 2012.
033580 | Curt Harbsmeier | 76 FR 80384; December 23, 2011 | March 22, 2012.
812907 | Disney's Animal Kingdom | 77 FR 298; January 4, 2012 | March 9, 2012.
52995A | Topeka Zoological Park | 77 FR 298; January 4, 2012 | March 9, 2012.
675214 | Zoological Society of Buffalo, Inc | 77 FR 298; January 4, 2012 | March 9, 2012.
62256A | Xiaobo Chu | 77 FR 298; January 4, 2012 | March 9, 2012.
012505 | Akron Zoological Park | 77 FR 298; January 4, 2012 | March 9, 2012.
720230 | Feld Entertainment Inc | 77 FR 2314; January 17, 2012 | March 15, 2012.
62429A | ADL Seven Hunting Ranch | 77 FR 2314; January 17, 2012 | March 9, 2012.
697763 | Houston Zoo, Inc | 77 FR 2314; January 17, 2012 | March 9, 2012.
62113A | Zoological Society of San Diego | 77 FR 2314; January 17, 2012 | March 8, 2012.
62434A | Omaha's Henry Doorly Zoo | 77 FR 2314; January 17, 2012 | March 23, 2012.
826561 | Hill Country Aviaries, LLC | 77 FR 3493; January 24, 2012 | March 9, 2012.
58990A | Rhodes Russell Bobbitt | 77 FR 3493; January 24, 2012 | March 9, 2012.
681588 | Kansas City Zoo | 77 FR 3493; January 24, 2012 | March 9, 2012.
57466A | Metro Richmond Zoo | 77 FR 3493; January 24, 2012 | March 15, 2012.
101634 | Tom Chiang | 77 FR 3493; January 24, 2012 | March 9, 2012.
63141A | ADL Seven Hunting Ranch | 77 FR 3493; January 24, 2012 | March 9, 2012.
685105 | Denver Zoological Gardens | 77 FR 6139; February 7, 2012 | March 9, 2012.
63673A | Matthew Kirkwood | 77 FR 6139; February 7, 2012 | March 9, 2012.
196626 | Peter Lee | 77 FR 6139; February 7, 2012 | March 9, 2012.
115344 | Forrest Simpson | 77 FR 6139; February 7, 2012 | March 9, 2012.
115345 | Forrest Simpson | 77 FR 6139; February 7, 2012 | March 9, 2012.
63871A | Bar H Bar Land & Cattle Company | 77 FR 6816; February 9, 2012 | March 12, 2012.
63872A | Bar H Bar Land & Cattle Company | 77 FR 6816; February 9, 2012 | March 12, 2012.
128054 | Leslie Barnhart | 77 FR 6816; February 9, 2012 | March 12, 2012.
128056 | Leslie Barnhart | 77 FR 6816; February 9, 2012 | March 12, 2012.
63868A | Cedar Hill Birds | 77 FR 6816; February 9, 2012 | March 12, 2012.
64775A | Diamond J Game Ranch | 77 FR 6816; February 9, 2012 | March 12, 2012.
64776A | Diamond J Game Ranch | 77 FR 6816; February 9, 2012 | March 12, 2012.
690098 | Thomas Moore | 77 FR 6816; February 9, 2012 | March 12, 2012.
64742A | Bamberger Ranch Preserve | 77 FR 6816; February 9, 2012 | March 13, 2012.
64481A | Indianhead Ranch INC | 77 FR 6816; February 9, 2012 | March 13, 2012.
64482A | Indianhead Ranch INC | 77 FR 6816; February 9, 2012 | March 13, 2012.
731315 | Kyle Wildlife Limited | 77 FR 6816; February 9, 2012 | March 13, 2012.
828861 | Kyle Wildlife Limited | 77 FR 6816; February 9, 2012 | March 13, 2012.
64654A | Double Springs Partnership Ltd | 77 FR 6816; February 9, 2012 | March 14, 2012.
64656A | Double Springs Partnership Ltd | 77 FR 6816; February 9, 2012 | March 14, 2012.
64723A | Larry Friesenhahn | 77 FR 6816; February 9, 2012 | March 14, 2012.
64724A | Larry Friesenhahn | 77 FR 6816; February 9, 2012 | March 14, 2012.
667872 | H & L Sales | 77 FR 6816; February 9, 2012 | March 14, 2012.
704025 | H & L Sales | 77 FR 6816; February 9, 2012 | March 14, 2012.
64740A | Jetton Ranch | 77 FR 6816; February 9, 2012 | March 14, 2012.
64741A | Jetton Ranch | 77 FR 6816; February 9, 2012 | March 14, 2012.
64652A | Kent Creek Ranch Inc | 77 FR 6816; February 9, 2012 | March 14, 2012.
64653A | Kent Creek Ranch Inc | 77 FR 6816; February 9, 2012 | March 14, 2012.
192403 | Ricardo Longoria | 77 FR 6816; February 9, 2012 | March 14, 2012.
192404 | Ricardo Longoria | 77 FR 6816; February 9, 2012 | March 14, 2012.
64743A | Mathias Family Investments LLC | 77 FR 6816; February 9, 2012 | March 14, 2012.
64744A | Mathias Family Investments LLC | 77 FR 6816; February 9, 2012 | March 14, 2012.
64737A | Palfam Ranch Management LLC | 77 FR 6816; February 9, 2012 | March 27, 2012.
64164A | NH&S Holdings, LLC | 77 FR 6816; February 9, 2012 | March 26, 2012.
64161A | Recordbuck Ranch | 77 FR 6817; February 9, 2012 | March 26, 2012.
65116A | 5F Ranch-Ford Ranch Corp | 77 FR 9687; February 17, 2012 | March 23, 2012.
013008 | 777 Ranch, Inc | 77 FR 9687; February 17, 2012 | March 23, 2012.
017404 | 777 Ranch, Inc | 77 FR 9687; February 17, 2012 | March 23, 2012.
17533A | Earl Bruno | 77 FR 9687; February 17, 2012 | March 23, 2012.
28015A | Earl Bruno | 77 FR 9687; February 17, 2012 | March 23, 2012.
64781A | Gregory Cerullo | 77 FR 9687; February 17, 2012 | March 23, 2012.
180803 | Laguna Vista Ranch, Ltd | 77 FR 9687; February 17, 2012 | March 23, 2012.
180804 | Laguna Vista Ranch, Ltd | 77 FR 9687; February 17, 2012 | March 23, 2012.
65009A | William Battle Montgomery | 77 FR 9687; February 17, 2012 | March 23, 2012.
812816 | Triple D Game Farm Inc | 77 FR 9687; February 17, 2012 | March 23, 2012.
64163A | NH&S Holdings, LLC | 77 FR 9687; February 17, 2012 | March 26, 2012.
64797A | Recordbuck Ranch | 77 FR 9687; February 17, 2012 | March 26, 2012.
65292A | Buck Valley Ranch | 77 FR 9687; February 17, 2012 | March 27, 2012.
65368A | Buck Valley Ranch | 77 FR 9687; February 17, 2012 | March 27, 2012.
64028A | Double D Ranch | 77 FR 9687; February 17, 2012 | March 27, 2012.
64029A | Double D Ranch | 77 FR 9687; February 17, 2012 | March 27, 2012.
64738A | Palfam Ranch Management LLC | 77 FR 9687; February 17, 2012 | March 27, 2012.
65090A | Eslabon Ranch, Ltd | 77 FR 9687; February 17, 2012 | March 28, 2012.
65091A | Eslabon Ranch, Ltd | 77 FR 9687; February 17, 2012 | March 28, 2012.
65096A | Ronald Grant | 77 FR 9687; February 17, 2012 | March 28, 2012.
65097A | Ronald Grant | 77 FR 9687; February 17, 2012 | March 28, 2012.
65320A | Guajolote Ranch, Inc | 77 FR 9687; February 17, 2012 | March 28, 2012.
65321A | Guajolote Ranch, Inc | 77 FR 9687; February 17, 2012 | March 28, 2012.
200207 | KJC Holdings | 77 FR 9687; February 17, 2012 | March 28, 2012.
200211 | KJC Holdings | 77 FR 9687; February 17, 2012 | March 28, 2012.
65017A | Kothman Ranch Company | 77 FR 9687; February 17, 2012 | March 28, 2012.
65019A | Kothman Ranch Company | 77 FR 9687; February 17, 2012 | March 28, 2012.
64986A | Ranch Vedado, Inc | 77 FR 9687; February 17, 2012 | March 28, 2012.
64987A | Ranch Vedado, Inc | 77 FR 9687; February 17, 2012 | March 28, 2012.
65092A | Turkey Creek Ranch Ltd | 77 FR 9687; February 17, 2012 | March 28, 2012.
65093A | Turkey Creek Ranch Ltd | 77 FR 9687; February 17, 2012 | March 28, 2012
60971A | University of Tennessee, College of Veterinary Medicine | 77 FR 12870; March 2, 2012 | April 10, 2012.
Marine Mammals
791721 | U.S. Geological Survey—Sirenia Project | 76 FR 30386; May 25, 2011 | April 20, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-10859 Filed 5-4-12; 8:45 am]

BILLING CODE 4310-55-P